DEPARTMENT OF COMMERCE

International Trade Administration

[A-549-502]

Circular Welded Carbon Steel Pipes and Tubes From Thailand: Extension of Time Limit for Preliminary Results of Antidumping Duty Administrative Review

AGENCY: Import Administration, International Trade Administration, Department of Commerce.

DATES: Effective Date: November 21, 2011.

FOR FURTHER INFORMATION CONTACT: Andrew Huston or Jacqueline Arrowsmith, Import Administration, International Trade Administration, U.S. Department of Commerce, 14th Street and Constitution Avenue NW., Washington, DC 20230; telephone: (202) 482-4261 and (202) 482-5255, respectively.

Background

On April 27, 2011, the Department of Commerce (the Department) published the initiation of an administrative review of the antidumping duty order on circular welded carbon steel pipes and tubes from Thailand for the period March 1, 2010, through February 28, 2011. See Initiation of Antidumping and Countervailing Duty Administrative Reviews, 76 FR 23545, 23546 (April 27, 2011). This review covers two producers/exporters of the subject merchandise to the United States: Saha Thai Steel Pipe (Public) Company, Ltd. (Saha Thai), and Pacific Pipe Public Company Limited (Pacific Pipe).

Extension of Time Limit for the Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

The Department requires additional time to evaluate the questionnaire responses from Saha Thai and Pacific Pipe in order to conduct a thorough analysis of all information on the record. In particular, the Department needs additional time to analyze cost of production information for both Saha Thai and Pacific Pipe. Therefore, the Department finds that it is not practicable to complete the preliminary results of this review by the original deadline of December 1, 2011, and is extending the deadline for completion of the preliminary results of this administrative review from 245 days to 365 days. The revised deadline for the preliminary results of this administrative review is now no later than March 30, 2012.

This notice is issued and published pursuant to sections 751(a)(3)(A) and 777(i)(1) of the Act.

Dated: November 15, 2011.
Christian Marsh,
Deputy Assistant Secretary for Antidumping and Countervailing Duty Operations.

[FR Doc. 2011-30011 Filed 11-18-11; 8:45 am]

BILLING CODE 3510-DS-P